ENVIRONMENTAL PROTECTION AGENCY

40 CFR Part 257

[EPA-HQ-OLEM-2020-0107; FRL-7814.2-03-OLEM]

RIN 2050-AH36

Hazardous and Solid Waste Management System: Disposal of Coal Combustion Residuals From Electric Utilities; CCR Management Unit Deadline Extension Rule; Withdrawal of Direct Final Rule

AGENCY: Environmental Protection Agency (EPA).

ACTION: Withdrawal of direct final rule.

SUMMARY: Due to the receipt of adverse comment, the Environmental Protection Agency (EPA) is withdrawing the direct final rule titled “Hazardous and Solid Waste Management System: Disposal of Coal Combustion Residuals From Electric Utilities; CCR Management Unit Deadline Extension Rule,” which published on July 22, 2025.

DATES: Effective September 4, 2025, the EPA withdraws the direct final rule published at 90 FR 34358, on July 22, 2025.

FOR FURTHER INFORMATION CONTACT: Taylor Holt, Office of Resource Conservation and Recovery, Materials Recovery and Waste Management Division, Environmental Protection Agency, 1200 Pennsylvania Avenue NW, MC: 5304T, Washington, DC 20460; telephone number: (202) 566-1439; email address: holt.taylor@epa.gov, or Frank Behan, Office of Resource Conservation and Recovery, Materials Recovery and Waste Management Division, Environmental Protection Agency, 1200 Pennsylvania Avenue NW, MC: 5304T, Washington, DC 20460; telephone number: (202) 566-0531; email address: behan.frank@epa.gov. For more information on this rulemaking, please visit https://www.epa.gov/coalash.

SUPPLEMENTARY INFORMATION: Due to the receipt of adverse comment, the EPA is withdrawing the direct final rule titled “Hazardous and Solid Waste Management System: Disposal of Coal Combustion Residuals From Electric Utilities; CCR Management Unit Deadline Extension Rule,” which published on July 22, 2025 (90 FR 34358). We stated in that direct final rule that if we received adverse comment by August 21, 2025, the direct final rule would not take effect and we would publish a timely withdrawal in the Federal Register. Because the EPA subsequently received adverse comment on that direct final rule, we are withdrawing the direct final rule.

The EPA published a parallel proposed rule (90 FR 34409, July 22, 2025) on the same day as the direct final rule. The proposed rule invited comment on the substance of the direct final rule. Notwithstanding this action to withdraw the direct final rule, the EPA will continue to accept comment on the parallel proposed rule through September 15, 2025, which is the new deadline to submit comments. EPA is also publishing in the “Proposed Rules” section of the Federal Register a reopening of the comment period for the proposed rule until September 15, 2025. Because the direct final rule has been withdrawn by this action, any further comments must be submitted on the proposed rule. The EPA will respond to comments received by September 15, 2025, as part of any final action it takes on the parallel proposed rule.

List of Subjects in 40 CFR Part 257

Environmental protection, Beneficial use, Coal combustion products, Coal combustion residuals, Coal combustion waste, Disposal, Hazardous waste, Landfill, Surface impoundment.

Lee Zeldin,
Administrator.

Accordingly, as of September 4, 2025, the EPA withdraws the direct final rule amending 40 CFR part 257, which published at 90 FR 34358, on July 22, 2025.

[FR Doc. 2025-16973 Filed 9-3-25; 8:45 am]

BILLING CODE 6560-50-P